DEPARTMENT OF HEALTH AND HUMAN SERVICES

Centers for Disease Control and Prevention

[30Day-07-05CP]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Micro-Finance Project for HIV Prevention—New—National Center for HIV/AIDS, Viral Hepatitis, STD and TB Prevention (NCHHSTP), Centers for Disease Control and Prevention (CDC).

Background and Brief Description

CDC is requesting a one-year approval from the Office of Management and Budget to conduct focus groups and administer a one-on-one qualitative interview to women who are at risk for HIV infection, and community leaders in four communities, in the southeastern United States. The purpose of this project is to conduct formative research to determine the most realistic and efficacious approach for developing a micro-finance project to reduce HIV/STD-related risk behavior among unemployed or underemployed high-risk African-American women in the southeastern United States, who are among those most at risk for HIV infection in the country. The project addresses goals of the CDC HIV Prevention Strategic Plan, specifically the goal of decreasing the number of persons at high risk of acquiring or transmitting HIV infection. Information from this project will inform the development of economic empowerment interventions to reduce risk for HIV infection. A focus group will be conducted with eight women (who are screened for eligibility) in each of the four communities (a total of 32 women) in the southeast United State with high prevalence of HIV and other sexually transmitted diseases. Up to eight women from each focus group (up to 32 women) will participate in individual interviews. Another focus group will include community leaders in each of the four communities (a total of 32 individuals). The focus groups will capture demographic information, attitudes, and knowledge regarding income-generating activities that are feasible (can be done with small capitalization and by these women with some training and other preparation), attractive (women will do this work), and useful (likely to produce income to address a reasonable proportion of economic need; the community will use the service or purchase the product of the activity). The focus group participants who also participate in individual interviews will respond to more personal questions. The semistructured individual interviews will explore behavioral, social, and economic conditions that might contribute to risk for HIV infection. The focus groups and interviews will each take about two hours each to complete. A screening interview for women participants will take about 11 minutes to complete. A demographic information form will take all participants an additional five minutes to complete. The total estimated annual burden to the public is 202 hours.

Estimate of Annualized Burden Hours
Type of respondents | Form name | Number of respondents | Number of responses per respondent | Average burden per response (in hours)
African American Women Ages 18-29 Years
| Screening Form | 55 | 1 | 8/60
| Contact Form | 55 | 1 | 3/60
| Demographic Information Form | 32 | 1 | 5/60
| Focus Group Guide | 32 | 1 | 115/60
| Individual Interview | 32 | 1 | 2
Community Leaders | Focus Group Guide (CL) | 32 | 1 | 115/60
| Demographic Information Form (CL) | 32 | 1 | 5/60

Dated: May 30, 2007.
Maryam I. Daneshvar,
Acting Reports Clearance Officer, Centers for Disease Control and Prevention.

[FR Doc. E7-11088 Filed 6-7-07; 8:45 am]

BILLING CODE 4163-18-P